DEPARTMENT OF ENERGY

Federal Energy Regulatory Commission

Combined Notice of Filings #1

Take notice that the Commission received the following electric rate filings:

Docket Numbers: ER16-1833-002.

Applicants: Sempra Gas & Power Marketing, LLC.

Description: Compliance filing: Sempra Gas & Power Marketing, LLC Market-Based Rate Tariff Compliance Filing to be effective 11/1/2017.

Filed Date: 11/1/17.

Accession Number: 20171101-5194.

Comments Due: 5 p.m. ET 11/22/17.

Docket Numbers: ER17-400-003.

Applicants: Kelly Creek Wind, LLC.

Description: Report Filing: Kelly Creek Wind Refund Report to be effective N/A.

Filed Date: 11/1/17.

Accession Number: 20171101-5295.

Comments Due: 5 p.m. ET 11/22/17.

Docket Numbers: ER17-400-004.

Applicants: Kelly Creek Wind, LLC.

Description: Compliance filing: Kelly Creek Wind Revised Rate Schedule Filing Effective February 1 2017 to be effective 2/1/2017.

Filed Date: 11/1/17.

Accession Number: 20171101-5296.

Comments Due: 5 p.m. ET 11/22/17.

Docket Numbers: ER17-2104-000.

Applicants: Southern Partners, INC.

Description: Second Amendment to July 18, 2017 Southern Partners, INC tariff filing (Asset Appendix).

Filed Date: 11/1/17.

Accession Number: 20171101-5297.

Comments Due: 5 p.m. ET 11/22/17.

Docket Numbers: ER18-210-000.

Applicants: Emera Maine.

Description: § 205(d) Rate Filing: Attachment J Revision to be effective 1/1/2018. Also Emera Maine submits tariff filing (Supporting Workpapers).

Filed Date: 11/1/17.

Accession Number: 20171101-5158; 20171101-5276.

Comments Due: 5 p.m. ET 11/22/17.

Docket Numbers: ER18-212-000.

Applicants: Tampa Electric Company.

Description: § 205(d) Rate Filing: Update of O&M Charges Under Interconnection Agreements to be effective 1/1/2018.

Filed Date: 11/1/17.

Accession Number: 20171101-5166.

Comments Due: 5 p.m. ET 11/22/17.

Docket Numbers: ER18-220-000.

Applicants: Wisconsin Public Service Corporation.

Description: § 205(d) Rate Filing: Meter Service Agreement between WPSC and GLU to be effective 1/1/2018.

Filed Date: 11/1/17.

Accession Number: 20171101-5245.

Comments Due: 5 p.m. ET 11/22/17.

Docket Numbers: ER18-221-000.

Applicants: Wisconsin Public Service Corporation.

Description: § 205(d) Rate Filing: Filing of a Wholesale Distribution Agreement w/Washington Island to be effective 1/1/2018.

Filed Date: 11/1/17.

Accession Number: 20171101-5264.

Comments Due: 5 p.m. ET 11/22/17.

Docket Numbers: ER18-222-000.

Applicants: Wisconsin Public Service Corporation.

Description: § 205(d) Rate Filing: Meter Service Agreement between WPSC and OEC to be effective 1/1/2018.

Filed Date: 11/1/17.

Accession Number: 20171101-5267.

Comments Due: 5 p.m. ET 11/22/17.

Docket Numbers: ER18-223-000.

Applicants: Southwest Power Pool, Inc.

Description: § 205(d) Rate Filing: 1266R8 Kansas Municipal Energy Agency NITSA and NOA to be effective 1/1/2018.

Filed Date: 11/1/17.

Accession Number: 20171101-5268.

Comments Due: 5 p.m. ET 11/22/17.

Docket Numbers: ER18-224-000.

Applicants: Midcontinent Independent System Operator, Inc.

Description: § 205(d) Rate Filing: 2017-11-01_Certain MISO TOs revisions to Attachment Os for ADIT to be effective 1/1/2018.

Filed Date: 11/1/17.

Accession Number: 20171101-5271.

Comments Due: 5 p.m. ET 11/22/17.

Docket Numbers: ER18-225-000.

Applicants: Wisconsin Public Service Corporation.

Description: § 205(d) Rate Filing: Filing of a Wholesale Distribution Agreement w/MG&E to be effective 1/1/2018.

Filed Date: 11/1/17.

Accession Number: 20171101-5273.

Comments Due: 5 p.m. ET 11/22/17.

Docket Numbers: ER18-226-000.

Applicants: Arizona Public Service Company.

Description: Notice of Cancellation of Rate Schedule No. 113 of Arizona Public Service Company.

Filed Date: 11/1/17.

Accession Number: 20171101-5277.

Comments Due: 5 p.m. ET 11/22/17.

Docket Numbers: ER18-228-000.

Applicants: Southwestern Public Service Company.

Description: § 205(d) Rate Filing: SPS Depreciation Filing to be effective 1/1/2018.

Filed Date: 11/1/17.

Accession Number: 20171101-5294.

Comments Due: 5 p.m. ET 11/22/17.

Docket Numbers: ER18-229-000.

Applicants: Virginia Electric and Power Company.

Description: Notice of Cancellation of a Generator Interconnection and Operating Agreement of Virginia Electric and Power Company.

Filed Date: 11/1/17.

Accession Number: 20171101-5299.

Comments Due: 5 p.m. ET 11/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2017.
Kimberly D. Bose,
Secretary.

[FR Doc. 2017-24277 Filed 11-7-17; 8:45 am]

BILLING CODE 6717-01-P